DEPARTMENT OF ENERGY

Federal Energy Regulatory Commission

Combined Notice of Filings #1

Take notice that the Commission received the following electric corporate filings:

Docket Numbers: EC20-59-000.

Applicants: PurEnergy II, LLC, Orion Acquisitions, LLC.

Description: Application for Authorization Under Section 203 of the Federal Power Act, et al. of PurEnergy II, LLC, et al.

Filed Date: 4/29/20.

Accession Number: 20200429-5396.

Comments Due: 5 p.m. ET 5/20/20.

Take notice that the Commission received the following electric rate filings:

Docket Numbers: ER19-221-003.

Applicants: San Diego Gas & Electric Company.

Description: Compliance filing: TO5 Compliance Filing to be effective 6/1/2019.

Filed Date: 4/29/20.

Accession Number: 20200429-5307.

Comments Due: 5 p.m. ET 5/20/20.

Docket Numbers: ER19-1939-001.

Applicants: Arizona Public Service Company.

Description: Compliance filing: FERC Order 845 Compliance Filing to be effective 5/22/2019.

Filed Date: 4/30/20.

Accession Number: 20200430-5161.

Comments Due: 5 p.m. ET 5/21/20.

Docket Numbers: ER20-1046-001.

Applicants: GridLiance High Plains LLC.

Description: Compliance filing: GridLiance High Plains LLC Annual Transmission Revenue Requirement Filing to be effective N/A.

Filed Date: 4/29/20.

Accession Number: 20200429-5303.

Comments Due: 5 p.m. ET 5/20/20.

Docket Numbers: ER20-1047-001.

Applicants: GridLiance High Plains LLC.

Description: Compliance filing: GHP Revised Wholesale Distribution Formula Rate Template to be effective 7/1/2020.

Filed Date: 4/29/20.

Accession Number: 20200429-5314.

Comments Due: 5 p.m. ET 5/20/20.

Docket Numbers: ER20-1048-001.

Applicants: GridLiance High Plains LLC.

Description: Compliance filing: GHP Revisions to OATT Formula Rate Template to be effective 7/1/2020.

Filed Date: 4/29/20.

Accession Number: 20200429-5306.

Comments Due: 5 p.m. ET 5/20/20.

Docket Numbers: ER20-1574-001.

Applicants: Midcontinent Independent System Operator, Inc.

Description: Tariff Amendment: 2020-04-30_SA 3473 Ameren IL—Hickory Point Solar Energy Center Sub GIA (J815) to be effective 4/2/2020.

Filed Date: 4/30/20.

Accession Number: 20200430-5162.

Comments Due: 5 p.m. ET 5/21/20.

Docket Numbers: ER20-1693-000.

Applicants: Assembly Solar, LLC.

Description: Baseline eTariff Filing: baseline new to be effective 6/28/2020.

Filed Date: 4/30/20.

Accession Number: 20200430-5000.

Comments Due: 5 p.m. ET 5/21/20.

Docket Numbers: ER20-1694-000.

Applicants: New England Power Pool Participants Committee.

Description: § 205(d) Rate Filing: May 2020 Membership Filing to be effective 4/1/2020.

Filed Date: 4/30/20.

Accession Number: 20200430-5079.

Comments Due: 5 p.m. ET 5/21/20.

Docket Numbers: ER20-1695-000.

Applicants: Public Service Company of Colorado.

Description: Notice of Cancellation of Network Operating Agreement of Public Service Company of Colorado.

Filed Date: 4/29/20.

Accession Number: 20200429-5442.

Comments Due: 5 p.m. ET 5/20/20.

Docket Numbers: ER20-1696-000.

Applicants: New York Independent System Operator, Inc.

Description: § 205(d) Rate Filing: 205: ESR Participation Model Enhancements to be effective 12/31/9998.

Filed Date: 4/30/20.

Accession Number: 20200430-5102.

Comments Due: 5 p.m. ET 5/21/20.

Docket Numbers: ER20-1697-000.

Applicants: Midcontinent Independent System Operator, Inc., AEP Indiana Michigan Transmission Company.

Description: Compliance filing: 2020-04-30_AEP Compliance on Order 864 for ADIT to be effective 1/27/2020.

Filed Date: 4/30/20.

Accession Number: 20200430-5131.

Comments Due: 5 p.m. ET 5/21/20.

Docket Numbers: ER20-1698-000.

Applicants: PJM Interconnection, L.L.C.

Description: § 205(d) Rate Filing: Original ISA, SA No. 5619; Queue No. AC1-221/AD1-058 to be effective 4/2/2020.

Filed Date: 4/30/20.

Accession Number: 20200430-5132.

Comments Due: 5 p.m. ET 5/21/20.

Docket Numbers: ER20-1699-000.

Applicants: Johanna Energy Center, LLC.

Description: Baseline eTariff Filing: Application for Market-Based Rate Authorization to be effective 5/1/2020.

Filed Date: 4/30/20.

Accession Number: 20200430-5137.

Comments Due: 5 p.m. ET 5/21/20.

Docket Numbers: ER20-1700-000.

Applicants: PJM Interconnection, L.L.C.

Description: § 205(d) Rate Filing: Amendment to ISA, Service Agreement No. 4512; Queue No. AB1-128 re: Assignment to be effective 7/18/2016.

Filed Date: 4/30/20.

Accession Number: 20200430-5138.

Comments Due: 5 p.m. ET 5/21/20.

Docket Numbers: ER20-1701-000.

Applicants: California Power Exchange Corporation.

Description: § 205(d) Rate Filing: Rate Filing for Rate Period 37 to be effective 7/1/2020.

Filed Date: 4/30/20.

Accession Number: 20200430-5141.

Comments Due: 5 p.m. ET 5/21/20.

Docket Numbers: ER20-1702-000.

Applicants: California Independent System Operator Corporation.

Description: § 205(d) Rate Filing: 2020-04-30 Split Participation Agreement with Calpine re Sutter Energy Center to be effective 7/1/2020.

Filed Date: 4/30/20.

Accession Number: 20200430-5165.

Comments Due: 5 p.m. ET 5/21/20.

Docket Numbers: ER20-1703-000.

Applicants: Capital Energy PA LLC.

Description: Baseline eTariff Filing: FERC MBR Tariff to be effective 5/15/2020.

Filed Date: 4/30/20.

Accession Number: 20200430-5174.

Comments Due: 5 p.m. ET 5/21/20.

Docket Numbers: ER20-1704-000.

Applicants: Duke Energy Progress, LLC.

Description: § 205(d) Rate Filing: DEP Wholesale Contract Revisions to RS No. 134 to be effective 6/1/2020.

Filed Date: 4/30/20.

Accession Number: 20200430-5177.

Comments Due: 5 p.m. ET 5/21/20.

Docket Numbers: ER20-1705-000.

Applicants: Pacific Gas and Electric Company.

Description: § 205(d) Rate Filing: Q1 2020 Quarterly Filing of City and County of San Francisco's WDT SA (SA 275) to be effective 3/31/2020.

Filed Date: 4/30/20.

Accession Number: 20200430-5181.

Comments Due: 5 p.m. ET 5/21/20.

Docket Numbers: ER20-1706-000.

Applicants: Duke Energy Progress, LLC.

Description: § 205(d) Rate Filing: DEP Wholesale Contract Revisions to RS Nos. 184 and 200 to be effective 6/1/2020.

Filed Date: 4/30/20.

Accession Number: 20200430-5188.

Comments Due: 5 p.m. ET 5/21/20.

Docket Numbers: ER20-1707-000.

Applicants: Rochelle Municipal Utilities, PJM Interconnection, L.L.C.

Description: § 205(d) Rate Filing: City of Rochelle submits Revisions to PJM Tariff to be Removed as a TO to be effective 5/28/2020.

Filed Date: 4/30/20.

Accession Number: 20200430-5190.

Comments Due: 5 p.m. ET 5/21/20.

Docket Numbers: ER20-1708-000.

Applicants: California State University Channel Island Site Authority.

Description: Baseline eTariff Filing: Reliablity Must-Run Agreement with CAISO to be effective 5/1/2020.

Filed Date: 4/30/20.

Accession Number: 20200430-5194.

Comments Due: 5 p.m. ET 5/21/20.

Docket Numbers: ER20-1709-000.

Applicants: Duke Energy Florida, LLC.

Description: § 205(d) Rate Filing: DEF 2020 Annual Filing of Cost Factor Updates to be effective 5/1/2020.

Filed Date: 4/30/20.

Accession Number: 20200430-5202.

Comments Due: 5 p.m. ET 5/21/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2020.
Nathaniel J. Davis, Sr.,
Deputy Secretary.

[FR Doc. 2020-09647 Filed 5-5-20; 8:45 am]

BILLING CODE 6717-01-P